EXPORT-IMPORT BANK OF THE UNITED STATES

Economic Impact Policy

This notice is to inform the public that the Export-Import Bank of the United States has received an application to guarantee $66 million of mining equipment and other goods and services on behalf of U.S. exporters to a buyer in Uzbekistan. The U.S. exports will enable the Uzbek company to mine 20 tons of gold annually. Virtually all of this new production will be exported from Uzbekistan and sold on the world market. Interested parties may submit comments on this transaction by email to economic.impact@exim.gov or by mail to 811 Vermont Avenue, NW., Room 1238, Washington, DC 20571, within 14 days of the date this notice appears in the Federal Register.

Helene S. Walsh,
Director, Policy Oversight and Review.

[FR Doc. 02-28569 Filed 11-8-02; 8:45 am]

BILLING CODE 6690-01-M